DEPARTMENT OF HOMELAND SECURITY

Coast Guard

[Docket No. USCG-2015-0156]

Great Lakes Pilotage Advisory Committee; Vacancies

AGENCY: Coast Guard, Department of Homeland Security.

ACTION: Request for applications.

SUMMARY: The Coast Guard seeks applications for membership on the Great Lakes Pilotage Advisory Committee. The Great Lakes Pilotage Advisory Committee provides advice and makes recommendations to the Secretary of Homeland Security through the Coast Guard Commandant on matters relating to Great Lakes pilotage, including review of proposed Great Lakes pilotage regulations and policies.

DATES: Completed applications should reach the Coast Guard on or before June 2, 2015.

ADDRESSES: Applicants should send a cover letter expressing interest in an appointment to the Great Lakes Pilotage Advisory Committee that also identifies which membership category the applicant is applying under, along with a resume detailing the applicant's experience via one of the following methods:

• By Email: Michelle.R.Birchfield@uscg.mil.

• By Fax: (202) 372-8387 ATTN: Ms. Michelle Birchfield, Great Lakes Pilotage Advisory Committee Alternate Designated Federal Officer.

• By Mail: Commandant (CG-WWM-2), U.S. Coast Guard, Attention: Ms. Michelle Birchfield, Great Lakes Pilotage Advisory Committee Alternate Designated Federal Officer, 2703 Martin Luther King Jr Ave SE., Stop 7509, Washington, DC 20593-7509.

FOR FURTHER INFORMATION CONTACT: Commandant (CG-WWM-2), U.S. Coast Guard, ATTN: Ms. Michelle Birchfield, Great Lakes Pilotage Advisory Committee Alternate Designated Federal Officer, 2703 Martin Luther King Jr Ave SE., Stop 7509, Washington, DC 20593-7509; telephone 202-372-1537, fax 202-372-8387, or email at Michelle.R.Birchfield@uscg.mil.

SUPPLEMENTARY INFORMATION: The Great Lakes Pilotage Advisory Committee is a federal advisory committee established in accordance with the provisions of the Federal Advisory Committee Act (5 U.S.C., Appendix). The Great Lakes Pilotage Advisory Committee operates under the authority of 46 U.S.C. 9307, and makes recommendations to the Secretary and the Coast Guard on matters relating to the Great Lakes.

Meetings of the Great Lakes Pilotage Advisory Committee will be held with the approval of the Designated Federal Officer. The Committee is required to meet at least once per year. Additional meetings may be held at the request of the majority of the Committee or at the discretion of the Designated Federal Officer. Further information about the Great Lakes Pilotage Advisory Committee is available by going to the Web site: https://www.facadatabase.gov. Click on the search tab and type “Great Lakes” into the search form. Then select “Great Lakes Pilotage Advisory Committee” from the list.

We will consider applicants for two positions that expire or become vacant on September 30, 2015.

• One member representing the interests of Great Lakes vessel operators that contract for Great Lakes Pilotage services;

• One member with a background in finance or accounting, who—

a. Must have been recommended to the Secretary by a unanimous vote of the other members of the Committee, and

b. May be appointed without regard to the requirement that each member have five years of practical experience in maritime operations.

To be eligible, applicants should have particular expertise, knowledge, and experience regarding the regulations and policies on the pilotage of vessels on the Great Lakes, and at least five years of practical experience in maritime operations.

The category for a member with a background in finance and accounting would be someone appointed in their individual capacity and would be designated as a Special Government Employee as defined in 202(a) of Title 18, U.S.C. As a candidate for appointment as a Special Government Employee, applicants are required to complete Confidential Financial Disclosure Reports (OGE Form 450). Coast Guard may not release the reports or the information in them to the public except under an order issued by a Federal court or as otherwise provided under the Privacy Act (5 U.S.C. 552a). Applicants can obtain this form by going to the Web site of the Office of Government Ethics (www.oge.gov), or by contacting the individual listed above in FOR FURTHER INFORMATION CONTACT. Applications which are not accompanied by a completed OGE Form 450 will not be considered.

Individuals shall serve terms of office of three years and may be reappointed to one additional term, serving not more than six consecutive years. All members serve at their own expense but may receive reimbursement for travel and per diem from the Federal Government.

Registered lobbyists are not eligible to serve on federal advisory committees in an individual capacity. See “Revised Guidance on Appointment of Lobbyist to Federal Advisory Committees, Boards and Commissions” (79 FR 47482, August 13, 2014). Registered lobbyists are lobbyists required to comply with provisions contained in the Lobbying Disclosure Act of 1995 (Pub. L. 104-65; as amended by Title II of Pub. L. 110-81).

The Department of Homeland Security does not discriminate in selection of Committee members on the basis of race, color, religion, sex, national origin, political affiliation, sexual orientation, gender identity, marital status, disability and genetic information, age, membership in an employee organization, or other non-merit factor. The Department of Homeland Security strives to achieve a widely diverse candidate pool for all of its recruitment actions.

If you are interested in applying to become a member of the Committee, send your cover letter and resume to, Ms. Michelle Birchfield, Alternate Designated Federal Officer of the Great Lakes Pilotage Advisory Committee by email or mail according to instructions in the ADDRESSES section by the deadline in the DATES section of this notice.

Note, that during the vetting process, applicants may be asked by the White House Liaison Office through the Coast Guard to provide their date of birth and social security number. All email submittals will receive email receipt confirmation.

To visit our online docket, go to http://www.regulations.gov, enter the docket number for this notice (USCG-2015-0156) in the Search box, and click “Search”. Please do not post your resume on this site.

Dated: March 31, 2015.
Gary C. Rasicot,
Director, Marine Transportation Systems, U.S. Coast Guard.

[FR Doc. 2015-07654 Filed 4-2-15; 8:45 am]

BILLING CODE 9110-04-P